SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before June 15, 2020.

ADDRESSES: Send all comments to Cassandra Fooks, Program Analyst, Office of Business Development, Small Business Administration, 409 3rd Street SW, Washington, DC 20416.

FOR FURTHER INFORMATION CONTACT: Cassandra Fooks, Program Analyst, Office of Business Development, Cassandra.fooks@sba.gov, 202-619-0305, or Curtis B. Rich, Management Analyst, 202-205-7030, curtis.rich@sba.gov.

SUPPLEMENTARY INFORMATION: All 8(a) participants are required to provide semi-annual to report the Small Business Administration on compensation provided to any Agents, or Representatives, (hereafter referred to as Representatives), including attorneys, accountants and consultants, for assisting the Participants to receive Federal contracts. The information includes the amount of compensation provided to the Representative and a description of the services performed in return for such compensation received and description of the activities performed in return for such compensation. The information is used to ensure that Participants do not engage in any improper or illegal activity in connection with obtaining a contract.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Representatives Used and Compensation Paid for Services in Connection with Obtaining Federal Contracts.

Description of Respondents: 8(a) Participants.

Form Number: SBA Form 1790.

Total Estimated Annual Responses: 4,624.

Total Estimated Annual Hour Burden: 2,976.

Curtis Rich,
Management Analyst.

[FR Doc. 2020-07852 Filed 4-13-20; 8:45 am]

BILLING CODE 8026-03-P